DEPARTMENT OF DEFENSE

Office of the Secretary

Defense Business Board; Notice of Federal Advisory Committee Meeting

AGENCY: Department of Defense (DoD).

ACTION: Notice of Federal advisory committee meeting.

SUMMARY: The DoD is publishing this notice to announce that the following Federal advisory committee meeting of the Defense Business Board (“the Board”) will take place.

DATES: Closed to the public Thursday, August 1, 2024 from 8:45 a.m. to 11:30 a.m., 3:00 p.m. to 4:30 p.m., and 5:30 p.m. to 7:00 p.m. and closed to the public Friday, August 2, 2024 from 9:00 a.m. to 9:45 a.m. and from 11:30 a.m. to 12:30 p.m. Open to the public Friday, August 2 from 9:45 a.m. to 11:30 a.m. All Eastern time.

ADDRESSES: The open and closed portions of the meeting will be held in room B7 of the Pentagon Library Conference Center (PLCC), room 4D728 in the Pentagon, and the U.S. State Department, Washington, DC.

FOR FURTHER INFORMATION CONTACT: Ms. Cara Allison Marshall, Designated Federal Officer (DFO) of the Board in writing at Defense Business Board, 1155 Defense Pentagon, Room 5B1088A, Washington, DC 20301-1155; or by email at cara.l.allisonmarshall.civ@mail.mil; or by phone at 703-614-1834.

SUPPLEMENTARY INFORMATION: This meeting is being held under the provisions of chapter 10 of title 5, United States Code (U.S.C.) (commonly known as the “Federal Advisory Committee Act” or “FACA”); 5 U.S.C. 552b (commonly known as the “Government in the Sunshine Act”); and 41 Code of Federal Regulations (CFR) 102-3.140 and 102-3.150.

Due to circumstances beyond the control of the Designated Federal Officer and the Department of Defense, the Defense Business Board was unable to provide public notification required by 41 CFR 102-3.150(a) concerning its August 1 and 2, 2024 meeting. Accordingly, the Advisory Committee Management Officer for the Department of Defense, pursuant to 41 CFR 102-3.150(b), waives the 15-calendar day notification requirement.

Purpose of the Meeting: The mission of the Board is to examine and advise the Secretary and Deputy Secretary of Defense on overall DoD management and governance. The Board provides independent, strategic-level, private sector and academic advice and counsel on enterprise-wide business management approaches and best practices for business operations and achieving National Defense goals.

Agenda: The Board will begin in closed session in the PLCC, room B7, on August 1 from 8:45 a.m. to 11:30 a.m. The DFO will begin the closed session followed by a welcome by Board Chair, Hon. Deborah James. The Board will receive a classified discussion on “Supply Chain Risk Management—Understanding Threats to the Defense Supply Chain” from Mr. Paul Cromwell, Deputy Division Chief and Mr. Chris Diehl, Senior Intelligence Officer, both from the Supply Chain Risk Management—Threat Analysis Center. This discussion will focus on a current analysis of DoD supply chain vulnerabilities and risk assessments. Next, the Board will receive a classified discussion on “Strategic Initiatives to Enhance Advanced Technology Integration” from Gen. Charles Q. “CQ” Brown, Jr., Chairman of the Joint Chiefs of Staff. The Chairman of the Joint Chiefs of Staff will discuss strategic initiatives to enhance the integration of advanced technologies such as artificial intelligence, cybersecurity, and autonomous systems into defense operations, addressing how these innovations can improve operational readiness, streamline logistics, and ensure the United States maintains a position of relative advantage in Great Power Competition. Following, the Board will receive a classified discussion on “DoD Current Affairs” from Hon. Lloyd Austin, Secretary of Defense. The discussion with Secretary Austin will focus on the state of the current global security environment and its implications for current and future business operations. The Board will travel to the U.S. State Department (DoS) on August 1 to convene in a closed session from 3:00 p.m. to 4:30 p.m. to receive a classified briefing on “U.S. State Department Business Operations and the Management of Challenging Foreign Policy Issues” from Dr. Richard R. Verma, Deputy Secretary of State for Management and Resources. This classified discussion will explore best business practices from the DoS that may be applicable to the DoD, with a focus on how both agencies align business practices to achieve better outcomes for national security stakeholders. Dr. Verma will also provide insights into the DoS's management of foreign policy issues and their impact on the DoD's efforts to support the National Defense Strategy. For the final session on August 1, the Board will convene in a closed session in the Pentagon, room 4D728, from 5:30 p.m. to 7:00 p.m. to receive a classified discussion on “Preparing the DoD for an Orderly Transition to the Next Administration” from Hon. Kathleen Hicks, Deputy Secretary of Defense. This discussion will involve how the Deputy Secretary and other key officials plan for and manage a transition between administrations. The Deputy Secretary will provide insights on how the Department plans to solidify progress on key initiatives. The DFO will adjourn the closed session. The Board will reconvene in closed session on August 2 in the PLCC, room B7, from 9:00 a.m. to 9:45 a.m. The DFO will begin the closed session followed by a welcome by Board Chair, Hon. Deborah James. The Board will receive a classified discussion on “Defense Business Board `Reoccurring Themes' ” from Hon. Kathleen Hicks, Deputy Secretary of Defense. Having conducted several studies during their tenure, the Board has mentioned the commonality of some findings and recommendations across multiple reports. This discussion will provide an opportunity for the Deputy Secretary to ask the Board to provide their private industry perspective on common findings and their views on the most important recommendations for the Department to tackle. The DFO will adjourn the closed session. The Board will convene in open session on August 2 from 9:45 a.m. to 11:30 a.m. The DFO will begin the open session followed by a discussion on the progress of “Talent Management Initiatives” from Hon. Ashish S. Vazirani, Performing the Duties of the Under Secretary of Defense for Personnel and Readiness (USD(P&R)) and Mr. Brynt Parmeter, DoD Chief Talent Management Officer. This discussion will offer an update on the progress achieved during the inaugural year of the Chief Talent Management Office, along with outlining the organizational structure and key talent management initiatives within the Office of the USD(P&R). After a short break, the Board will receive a Subcommittee Update on the `Communicating in Large Organizations' Study from Mr. Matthew Daniel and Hon. Dave Walker, Co-Chairs, Talent Management, Culture, & Diversity Advisory Subcommittee. During this session, the subcommittee will brief the Board on the findings, observations, and recommendations it has compiled thus far as part of the study on best practices to effectively communicate in large organizations. The subcommittee expects to brief the final study in September 2024. The DFO will adjourn the open session. The Board will reconvene in a closed session on August 2 from 11:30 a.m. to 12:30 p.m. The Board will receive a classified discussion on “Software Modernization Reform Initiatives” from Hon. Gabe Camarillo, Under Secretary of the Army. This discussion will provide insight into the Army's new policy to institutionalize modern software development approaches across the Army, along with the opportunities and obstacles to expand software reform across the DoD enterprise. The DFO will adjourn the closed session and the Board meeting. The latest version of the agenda is available on the Board's website at: https://dbb.dod.afpims.mil/Meetings/Meeting-August-2024/.

Meeting Accessibility: In accordance with 5 U.S.C. 1009(d) and 41 CFR 102-3.155, it is hereby determined that portions of the August 1-2 meeting of the Board will include classified information and other matters covered by 5 U.S.C. 552b(c)(1) and that, accordingly, those portions of the meeting will be closed to the public on August 1 from 8:45 a.m. to 11:30 a.m., 3:00 p.m. to 4:30 p.m., and 5:30 p.m. to 7:00 p.m. and on August 2 from 9:00 a.m. to 9:45 a.m. and 11:30 a.m. to 12:30 p.m. This determination is based on the consideration that it is expected that discussions throughout those portions of the meeting will involve classified matters of national security. Such classified material is so intertwined with the unclassified material that it cannot reasonably be segregated into separate discussions without defeating the effectiveness and meaning of the meeting. To permit the meeting to be open to the public would preclude discussion of such matters and would greatly diminish the ultimate utility of the Board's findings and recommendations to the Secretary of Defense and the Deputy Secretary of Defense. Pursuant to 5 U.S.C. 1009(a)(1) and 41 CFR 102-3.140, the portion of the meeting on August 2 from 9:45 a.m. to 11:30 a.m. is open to the public virtually. Persons desiring to attend the public sessions are required to register. To attend the public sessions, submit your name, affiliation/organization, telephone number, and email contact information to the Board at osd.pentagon.odam.mbx.defense-business-board@mail.mil. Requests to attend the public sessions must be received no later than 4:00 p.m. on Tuesday, July 30, 2024. Upon receipt of this information, the Board will provide further instructions for virtually attending the meeting.

Written Comments and Statements: Pursuant to 41 CFR 102-3.105(j) and 102-3.140 and 5 U.S.C. 1009(a)(3), the public or interested organizations may submit written comments or statements to the Board in response to the stated agenda of the meeting or regarding the Board's mission in general. Written comments or statements should be submitted to Ms. Cara Allison Marshall, the DFO, via electronic mail (the preferred mode of submission) at the address listed in the FOR FURTHER INFORMATION CONTACT section. Each page of the comment or statement must include the author's name, title or affiliation, address, and daytime phone number. The DFO must receive written comments or statements submitted in response to the agenda set forth in this notice by 4:00 p.m. on Tuesday, July 30, 2024, to be considered by the Board. The DFO will review all timely submitted written comments or statements with the Board Chair and ensure the comments are provided to all members of the Board before the meeting. Written comments or statements received after this date may not be provided to the Board until its next scheduled meeting. Please note that all submitted comments and statements will be treated as public documents and will be made available for public inspection, including, but not limited to, being posted on the Board's website.

Dated: July 18, 2024.
Aaron T. Siegel,
Alternate OSD Federal Register Liaison Officer, Department of Defense.

[FR Doc. 2024-16170 Filed 7-22-24; 8:45 am]

BILLING CODE 6001-FR-P